DEPARTMENT OF JUSTICE

Office of Juvenile Justice and Delinquency Prevention

[OJP(OJJDP)-1345]

Drug-Free Communities Support Program

AGENCY: Office of National Drug Control Policy, Executive Office of the President, and Office of Juvenile Justice and Delinquency Prevention, Office of Justice Programs, Justice.

ACTION: Notice of funding availability.

SUMMARY: The Executive Office of the President, Office of National Drug Control Policy (ONDCP), and the U.S. Department of Justice, Office of Juvenile Justice and Delinquency Prevention (OJJDP), are requesting applications for the fiscal year 2002 Drug-Free Communities Support Program to reduce substance abuse among youth and, over time, among adults. Approximately 70 grants of up to $100,000 each will be awarded to community coalitions that are working to prevent and reduce substance abuse among youth.

DATES: Applications must be received by April 24, 2002.

ADDRESSES: All applications must be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the FY 2002 Drug-Free Communities Support Program Application Package, which includes the Program Announcement, required forms, and instructions on how to apply at OJJDP's Web site at http://www.ojjdp.ncjrs.org (click on “Grants & Funding”).

FOR FURTHER INFORMATION CONTACT: One of the following Program Managers at the Office of Juvenile Justice and Delinquency Prevention:

• Tom Bell, Northwest Region, at 202-616-3664 or e-mail bell@ojp.usdoj.gov

• Mark Morgan, Southwest Region, at 202-353-9243 or e-mail morganm@ojp.usdoj.gov

• Jay Mykytiuk, Midwest/West Region, at 202-514-1351 or e-mail mykytiuk@ojp.usdoj.gov

• Judy Poston, Southeast Region, at 202-616-1283 or e-mail poston@ojp.usdoj.gov

• James Simonson, Northeast/East Region, at 202-353-9313, or e-mail simonson@ojp.usdoj.gov

• Gwen Williams, Central Region, at 202-616-1611, or e-mail williamg@ojp.usdoj.gov

[These are not toll-free numbers.]

SUPPLEMENTARY INFORMATION: The Drug-Free Communities Support Program was established by the Drug-Free Communities Act of 1997 (Pub. L. 105-20). On December 14, 2001, Pub. L. 107-82 reauthorized the program for 5 years. The program is designed to strengthen community antidrug coalitions and reduce substance abuse among youth.

Grantees will receive up to $100,000 in funding and training and technical assistance to reduce substance abuse among youth by addressing the factors in a community that serve to increase or decrease the risk of substance abuse and establish and strengthen collaboration among communities, including Federal, State, local, and tribal governments and private nonprofit agencies to support community coalition efforts to prevent and reduce substance abuse among youth.

Eligible applicants are community coalitions whose members have worked together on substance abuse reduction initiatives for a period of not less than 6 months. The coalition will use entities such as task forces, subcommittees, community boards, and any other community resources that will enhance the coalition's collaborative efforts. With substantial participation from community volunteer leaders, the coalition will implement multisector, multistrategy, long-term plans designed to reduce substance abuse among youth. Coalitions may be umbrella coalitions serving multicounty areas.

Dated: February 6, 2002.
Gregory L. Dixon,
Administrator, Drug-Free Communities Support Program, Office of National Drug Control Policy.
Dated: February 6, 2002.
Terrence S. Donahue,
Acting Administrator, Office of Juvenile Justice and Delinquency Prevention.

[FR Doc. 02-3312 Filed 2-12-02; 8:45 am]

BILLING CODE 4410-18-P